DEPARTMENT OF COMMERCE

Submission for OMB Review; Comment Request

The Department of Commerce will submit to the Office of Management and Budget (OMB) for clearance the following proposal for collection of information under the provisions of the Paperwork Reduction Act (44 U.S.C. Chapter 35).

Agency: Bureau of Economic Analysis.

Title: Institutional Remittances to Foreign Countries.

OMB Control Number: 0608-0002.

Form Number(s): BE-40.

Type of Request: Regular submission.

Burden Hours: 2,100.

Number of Respondents: 790.

Average Hours Per Response: 1.5 hours.

Needs and Uses: The survey is required in order to obtain data concerning the transfer of cash grants to foreign countries and expenditures in foreign countries by U.S. religious, charitable, educational, scientific, and similar organizations. The data are needed primarily to enable the Bureau of Economic Analysis to compile the U.S. international economic accounts. They are also used by other organizations and government agencies as general purpose economic statistics in support of a variety of policies and programs.

Affected Public: Not-for-profit institutions.

Frequency: Quarterly and annually.

Respondent's Obligation: Voluntary.

OMB Desk Officer: Paul Bugg, (202) 395-3093.

Copies of the above information collection proposal can be obtained by calling or writing Diana Hynek, Departmental Paperwork Clearance Officer, (202) 482-0266, Department of Commerce, Room 6625, 14th and Constitution Avenue, NW., Washington, DC 20230 (or via e-mail at dHynek@doc.gov).

Written comments and recommendations for the proposed information collection should be sent within 30 days of publication of this notice to Paul Bugg, OMB Desk Officer, FAX number (202) 395-7245 or via e-mail at pbugg@omb.eop.gov.

Dated: November 7, 2007.
Gwellnar Banks,
Management Analyst, Office of the Chief Information Officer.

[FR Doc. E7-22228 Filed 11-13-07; 8:45 am]

BILLING CODE 3510-EA-P